DEPARTMENT OF COMMERCE

International Trade Administration

[A-533-824]

Polyethylene Terephthalate Film, Sheet, and Strip From India: Final Results of Antidumping Duty Administrative Review; 2020-2021

AGENCY: Enforcement and Compliance, International Trade Administration, Department of Commerce.

SUMMARY: On August 5, 2022, the U.S. Department of Commerce (Commerce) published the preliminary results of the 2020-2021 administrative review of the antidumping duty order on polyethylene terephthalate film, sheet, and strip (PET Film) from India. The period of review (POR) is July 1, 2020, through June 30, 2021. This review covers two producers and exporters of PET Film from India: Jindal Poly Films Ltd. (Jindal) and SRF Limited (SRF). We continue to find that mandatory respondent SRF did not make sales of subject merchandise to the United States at less than normal value during the POR.

DATES: Applicable February 2, 2023.

FOR FURTHER INFORMATION CONTACT: Jacqueline Arrowsmith or Jacob Saude, AD/CVD Operations, Office VII, Enforcement and Compliance, International Trade Administration, U.S. Department of Commerce, 1401 Constitution Avenue NW, Washington, DC 20230; telephone: (202) 482-5255 or (202) 482-0981, respectively.

Background

On August 5, 2022, Commerce published the Preliminary Results for this administrative review.¹ On September 6, 2022, we issued a supplemental questionnaire to SRF related to its response to sections A through C of Commerce's initial questionnaire.² SRF timely submitted its response to this supplemental questionnaire on September 29, 2022.³ We made no changes to the Preliminary Results except for the use of an updated dataset provided by SRF which did not change the calculated margin as explained further below.

¹ See Polyethylene Terephthalate Film, Sheet, and Strip from India: Preliminary Results and Partial Rescission of Antidumping Duty Administrative Duty Review; 2020-2021, 87 FR 47968 (August 5, 2022) (Preliminary Results), and accompanying Preliminary Decision Memorandum.

² See Commerce's Letter, “Supplemental Questionnaire,” dated September 6, 2022.

³ See SRF's Letter, “Submission of 2nd Supplemental Response,” dated September 29, 2022.

On October 25, 2022, Commerce revised the deadlines for the briefing schedule.⁴ We invited interested parties to comment on the Preliminary Results; however, no interested party submitted comments. On November 14, 2022, we extended the final results of the review until February 1, 2023.⁵ Commerce conducted this administrative review in accordance with section 751(a)(1)(B) of the Tariff Act of 1930, as amended (the Act).

⁴ See Memorandum, “Briefing Schedule,” dated October 25, 2022.

⁵ See Memorandum, “Extension of Deadline for Final Results of Antidumping Duty Administrative Review,” dated November 14, 2022.

Scope of the Order ⁶

⁶ See Notice of Amended Final Antidumping Duty Determination of Sales at Less Than Fair Value and Antidumping Duty Order: Polyethylene Terephthalate Film, Sheet, and Strip (PET Film) from India, 67 FR 44175 (July 1, 2002) (Order).

The products covered by the Order are all gauges of raw, pretreated, or primed PET film, whether extruded or coextruded. Excluded are metalized films and other finished films that have had at least one of their surfaces modified by the application of a performance-enhancing resinous or inorganic layer of more than 0.00001 inches thick. Imports of PET film are currently classifiable in the Harmonized Tariff Schedule of the United States (HTSUS) under item number 3920.62.00.90. HTSUS subheadings are provided for convenience and Customs purposes. The written description of the scope of Order is dispositive.

Changes Since the Preliminary Results

As noted above, Commerce received no comments concerning the Preliminary Results. On September 29, 2022, SRF submitted new home market sales data with updated quantity discount information (REBATE1H). We used the new sales information with the updated data but made no other changes or updates to the calculations for the final results, and the margin calculated in the Preliminary Results did not change as a result of the updated data.⁷ Accordingly, no decision memorandum accompanies this Federal Register notice.

⁷ For further details, see Memorandum, “Analysis Memorandum for the Final Results of the Antidumping Duty Administrative Review of Polyethylene Terephthalate Film, Sheet, and Strip from India: SRF Ltd.,” dated concurrently with this notice.

Company Not Selected for Individual Review

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally an amount equal to the weighted average of the estimated weighted-average dumping margins established for exporters and producers individually examined, excluding any margins that are zero, de minimis (i.e., less than 0.5 percent), or determined entirely on the basis of facts available. However, where the dumping margins for individually examined respondents are all zero, de minimis, or based entirely on facts available, section 735(c)(5)(B) of the Act provides that Commerce may use “any reasonable method to establish the estimated all-others rate for exporters and producers not individually investigated, including averaging the estimated weighted average dumping margins determined for the exporters and producers individually investigated.” In this review, we have calculated a weighted-average dumping margin for SRF, the sole mandatory respondent, that is zero. Thus, consistent with section 735(c)(5)(B) of the Act, we are assigning to the one company not selected for individual examination, Jindal, the zero percent rate calculated for the mandatory respondent, SRF.

Final Results of Review

As noted above, Commerce received no comments concerning the Preliminary Results. We continue to find that sales of subject merchandise by SRF were not made at less than normal value during the POR. The final weighted-average dumping margins for the period July 1, 2020, through June 30, 2021, for both Jindal and SRF are as follows:

Producer/exporter | Weighted-average dumping margin (percent)
Jindal Poly Films Ltd | 0.00
SRF Limited | 0.00

Assessment Rates

Commerce will determine, and CBP shall assess, antidumping duties on all appropriate entries in this review, in accordance with section 751(a)(2)(C) of the Act and 19 CFR 351.212(b)(1). Because we calculated a zero percent margin in the final results of this review for Jindal and SRF, in accordance with 19 CFR 351.212 we will instruct CBP to liquidate the appropriate entries without regard to antidumping duties.

Commerce intends to issue appropriate assessment instructions directly to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date, as provided for by section 751(a)(2)(C) of the Act: (1) the cash deposit rate for Jindal and SRF will be zero, the rate established in the final results of this review; (2) for previously reviewed or investigated companies not covered in this review, the cash deposit rate will continue to be the company-specific rate published for the most recent period; (3) if the exporter is not a firm covered in this or any previous review or in the original LTFV investigation but the manufacturer is, the cash deposit rate will be the rate established for the most recent period for the manufacturer of the merchandise; and (4) if neither the exporter nor the manufacturer is a firm covered in this or any previous review or the LTFV investigation, the cash deposit rate will continue to be the all-others rate of 5.71 percent, which is the all-others rate established by Commerce in the LTFV investigation.⁸ These cash deposit requirements, when imposed, shall remain in effect until further notice.

⁸ See Order, 67 FR at 44176 (showing the dumping margin computed for all other producers/exporters as 24.14 percent); and Notice of Final Determination of Sales at Less Than Fair Value: Polyethylene Terephthalate Film, Sheet, and Strip from India, 67 FR 34899, 34901 (showing an adjustment of 18.43 percent for export subsidies found in the companion countervailing duty investigation). The cash deposit rate for all other exporters is the net of these figures (i.e., 5.71 percent).

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

Notification to Interested Parties

These results are being issued and published in accordance with sections 751(a)(1) and 777(i)(1) of the Act and 19 CFR 351.213(h).

Dated: January 27, 2023.
Lisa W. Wang,
Assistant Secretary for Enforcement and Compliance.

[FR Doc. 2023-02189 Filed 2-1-23; 8:45 am]

BILLING CODE 3510-DS-P